DEPARTMENT OF LABOR

Employment and Training Administration

[TA-W-59,490]

Pace Industries; Georgia Warehouse; Midland, GA; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on June 16, 2006, applicable to workers of Pace Industries, Georgia Warehouse, Midland, Georgia. The notice will soon be published in the Federal Register.

At the request of the company official, the Department reviewed the denial of eligibility for workers of the subject firm to apply for Alternative Trade Adjustment Assistance. The workers are engaged in warehousing grill castings produced by Pace Industries, whose workers are certified eligible to apply for adjustment assistance.

The workers of the firm's Georgia Warehouse were denied eligibility to apply for Alternative Trade Adjustment Assistance because a significant number of workers were not 50 years of age or older. The company official has provided new information with respect to the number of workers over age 50. The Department has determined that this revised number of workers meets the significant number of workers requirement. Additionally, the investigation determined that the workers of the subject firm possess skills that are not easily transferable and competitive conditions in the industry are adverse.

Accordingly, the Department is amending the determination to extend eligibility to apply for alternative trade adjustment assistance to the workers of Pace Industries, Georgia Warehouse, Midland, Georgia.

The amended notice applicable to TA-W-59,490 is hereby issued as follows:

All workers of Pace Industries, Georgia Warehouse, Midland, Georgia, who became totally or partially separated from employment on or after May 30, 2005 through June 16, 2008, are eligible to apply for adjustment assistance under Section 223 of the Trade Act of 1974, and are also eligible to apply for alternative trade adjustment assistance under Section 246 of the Trade Act of 1974.

Signed in Washington, DC, this 7th day of July, 2006.
Linda G. Poole,
Certifying Officer, Division of Trade Adjustment Assistance.

[FR Doc. E6-11218 Filed 7-14-06; 8:45 am]

BILLING CODE 4510-30-P